DEPARTMENT OF LABOR

Employment and Training Administration

[TA-W-61,852]

Schnadig Corporation, Montoursville, PA; Notice of Negative Determination Regarding Application for Reconsideration

By application dated September 3, 2007, a petitioner requested administrative reconsideration of the Department's negative determination regarding eligibility for workers and former workers of the subject firm to apply for Trade Adjustment Assistance (TAA). The denial notice was signed on August 3, 2007 and published in the Federal Register on August 14, 2007 (72 FR 45451).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, which was filed on behalf of workers at Schnadig Corporation, Montoursville, Pennsylvania engaged in the production of lawn and garden products, was denied based on the findings that during the relevant time period, the subject company did not separate or threaten to separate a significant number or proportion of workers, as required by Section 222 of the Trade Act of 1974.

In the request for reconsideration, the petitioner alleges that because he was a part of the initially certified worker group and remained employed by the subject firm after all the production stopped and beyond the expiration date of the original TAA certification, he should be also eligible for TAA.

The workers of the subject firm were previously certified eligible for TAA (TA-W-55,198). This certification expired on July 15, 2006. The investigation revealed that production at the subject firm ceased in August of 2004.

When assessing eligibility for TAA, the Department exclusively considers the relevant employment data (for one year prior to the date of the petition and any imminent layoffs) for the facility where the petitioning worker group was employed. In this case, the employment since the expiration of the previous certification was considered. The subject firm did not separate or threaten to separate a significant number of proportion of workers as required by Section 222 of the Trade Act of 1974. Significant number or proportion of the workers in a firm or appropriate subdivision means at least three workers in a workforce of fewer than 50 workers, five percent of the workers in a workforce of over 50 workers, or at least 50 workers.

Moreover, in its investigation, the Department considers production that occurred one year prior to the date of the petition as required in the Trade Adjustment Assistance regulations. Thus the period ending in 2004 is outside of the relevant period as established by the current petition date of July 12, 2007. The investigation revealed that the subject facility did not manufacture articles since 2004 and workers of the subject firm were not engaged in production of an article or supporting production of the article during the relevant time period. The Department further found that no new information was provided to contradict the original negative findings.

Conclusion

After review of the application and investigative findings, I conclude that there has been no error or misinterpretation of the law or of the facts which would justify reconsideration of the Department of Labor's prior decision. Accordingly, the application is denied.

Signed at Washington, DC, this 21st day of September, 2007.
Elliott S. Kushner,
Certifying Officer, Division of Trade Adjustment Assistance.

[FR Doc. E7-19179 Filed 9-27-07; 8:45 am]

BILLING CODE 4510-FN-P